DEPARTMENT OF ENERGY

Federal Energy Regulatory Commission

[Project No. 2299-082 and Project No. 14581-002]

Turlock Irrigation District and Modesto Irrigation District; Notice of Availability of the Draft Environmental Impact Statement for the Don Pedro and La Grange Projects

In accordance with the National Environmental Policy Act of 1969 and the Federal Energy Regulatory Commission's (Commission) regulations, 18 CFR part 380, the Office of Energy Projects has reviewed the applications for new license for the Don Pedro Project (FERC No. 2299) and for an original license for the La Grange Project (FERC No. 14581) and has prepared a draft environmental impact statement (EIS) for the projects. The Don Pedro Project is located on the Tuolumne River in Tuolumne County, California. It occupies 4,802 acres of federal land administered by the U.S. Department of Interior, Bureau of Land Management. The La Grange Project is located on the Tuolumne River immediately downstream of the Don Pedro Project in Stanislaus and Tuolumne Counties, California. It occupies 14 acres of federal land administered by BLM.

The draft EIS contains staff's evaluations of the applicant's proposals and the alternatives for relicensing the Don Pedro Project and licensing the La Grange Project. The draft EIS documents the views of governmental agencies, non-governmental organizations, affected Indian tribes, the public, the license applicant, and Commission staff.

A copy of the draft EIS is available for review in the Commission's Public Reference Branch, Room 2A, located at 888 First Street NE, Washington, DC 20426. The draft EIS also may be viewed on the Commission's website at http://www.ferc.gov under the eLibrary link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

All comments must be filed by April 12, 2019.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket number P-2299-082 or P-14581-002.

Anyone may intervene in this proceeding based on this draft EIS (18 CFR 380.10). You must file your request to intervene as specified above.¹ You do not need intervenor status to have your comments considered.

¹ Interventions may also be filed electronically via the internet in lieu of paper. See the previous discussion on filing comments electronically.

Commission staff will hold two public meetings for the purpose of receiving comments on the draft EIS. The daytime meeting will focus on resource agency, Indian tribes, and non-governmental organization comments, while the evening meeting is primarily for receiving input from the public. All interested individuals and entities will be invited to attend one or both of the public meetings. A notice detailing the exact date, time, and location of the public meetings will be forthcoming.

For further information, please contact Jim Hastreiter at (503) 552-2760 or at james.hastreiter@ferc.gov.

Dated: February 11, 2019.
Kimberly D. Bose,
Secretary.

[FR Doc. 2019-02714 Filed 2-19-19; 8:45 am]

BILLING CODE 6717-01-P